DEPARTMENT OF TRANSPORTATION

Federal Aviation Administration

Notice of Passenger Facility Charge (PFC) Approvals and Disapprovals

AGENCY: Federal Aviation Administration (FAA), DOT.

ACTION: Monthly Notice of PFC Approvals and Disapprovals. In October 2001, there were six applications approved. Additionally, 11 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and part 158 of the Federal Aviation Regulations (14 CFR part 158). This notice is published pursuant to paragraph d of 158.29.

PFC Applications Approved

Public Agency: Shenandoah Valley Regional Airport Commission, Weyers Cave, Virginia.

Application Number: 01-01-C-00-SHD.

Application Type: Impose and use a PFC.

PFC Level: $3.00.

Total PFC Revenue Approved in this Decision: $207,875.

Earliest Charge Effective Date: December 1, 2001.

Estimated Charge Expiration Date: December 1, 2006.

Classes of Air Carriers Not Required To Collect PFC's: (1) Unscheduled Part 135 air taxi/commercial operators for hire to the general public and (2) unscheduled Part 121 charter operators for hire to the general public.

Determination: Approved. Based on information contained in the public agency's application, the FAA has determined that each approved class accounts for less than 1 percent of the total annual enplanements at Shenandoah Valley Regional Airport.

Brief Description of Projects Approved for Collection and Use:

Develop PFC program and application.

Install medium intensity taxiway lights, airfield guidance signs, and precision approach path indicator.

Design and construct apron expansion.

Design and rehabilitate general aviation apron.

Design and construct runway safety area—runway 5.

Acquisition of snow removal and friction testing equipment.

Update airport layout plan.

Install stand-by emergency generator.

Decision Date: October 2, 2001.

FOR FURTHER INFORMATION CONTACT: Eleanor Schifflin, Eastern Region Airports Division, (718) 553-3354.

Public Agency: City of Bismarck, North Dakota.

Application Number: 01-03-C-00-BIS.

Application Type: Impose and use a PFC.

PFC Level: $4.50.

Total PFC Revenue Approved in this Decision: $925,522.

Earliest Charge Effective Date: May 1, 2002.

Estimated Charge Expiration Date: January 1, 2004.

Classes of Air Carriers Not Required To Collect PFC's: Air taxis filing FAA Form 1800-31, except commuter air carriers.

Determination: Approved. Based on information contained in the public agency's application, the FAA has determined that the approved class accounts for less than 1 percent of the total annual enplanements at Bismarck Municipal Airport.

Brief Description of Projects Approved for Collection and Use:

Remove taxiway A-4 and construct taxiway C-4.

Update security access system.

Extend taxiway C and reconfigure runway 13/31 exit taxiways.

Remove taxiways A, A-1, A-3, C-1, C-2, and associated electrical facilities.

Abandon and remove runway 17/35 and associated electrical facilities.

Replace general aviation apron.

Update airport master plan—terminal area study.

Replace airport beacon.

Terminal ramp rehabilitation.

Purchase broom truck.

PFC application preparation.

Decision Date: October 15, 2001.

FOR FURTHER INFORMATION CONTACT: Thomas T. Schauer, Bismarck Airports District Office, (701) 323-7380.

Public Agency: Port of Seattle, Washington.

Application Number: 01-06-U-00-SEA.

Application Type: Use PFC revenue.

PFC Level: $3.00.

Total PFC Revenue Approved in this Decision: $50,000,000.

Charge Effective Date: January 1, 2004.

Estimated Charge Expiration Date: September 1, 2021.

Class of Air Carriers Not Required To Collect PFC's: No change from previous decision.

Brief Description of Projects Approved for Collection and Use: Noise remedy program.

Decision Date: October 16, 2001.

FOR FURTHER INFORMATION CONTACT: Suzanne Lee-Pang, Seattle Airports District Office, (425) 227-2654.

Public Agency: County of Venture Department of Airports, Oxnard, California.

Application Number: 01-01-C-00-OXR.

Application Type: Impose and use a PFC.

PFC Level: $4.50.

Total PFC Revenue Approved in this Decision: $872,000.

Earliest Charge Effective Date: January 1, 2002.

Estimated Charge Expiration Date: June 1, 2007.

Class of Air Carriers Not Required To Collect PFC's: None.

Brief Description of Projects Approved for Collection and Use:

Revise/amend updates to airport master plan and Part 150 noise study.

Rehabilitate airport pavement, runway 7/25 and exit taxiways.

Rehabilitate terminal loop road.

Decision Date: October 19, 2001.

FOR FURTHER INFORMATION CONTACT: Dave Delshad, Western Pacific Region Airports Division, (310) 725-3627.

Public Agency: City of Harlingen, Texas.

Application Number: 01-02-C-00-HRL.

Application Type: Impose and use a PFC.

PFC Level: $3.00.

Total PFC Revenue Approved in this Decision: $5,032,330.

Earliest Charge Effective Date: January 1, 2002.

Estimated Charge Expiration Date: February 1, 2006.

Class of Air Carriers Not Required To Collect PFC's: Air taxi/commercial operators operating under Part 135 and filing FAA Form 1800-31.

Determination: Approved. Based on information contained in the public agency's application, the FAA has determined that the approved class accounts for less than 1 percent of the total annual enplanements at Valley International Airport.

Brief Description of Projects Approved for Collection and Use:

Construct air cargo apron.

Extend Bodenhamer Drive.

Install air cargo ramp lighting.

Acquire and install passenger loading bridge.

Overlay access roads.

Rehabilitate taxiway F.

Construct runway 17 blast pad.

Rehabilitate runways 17R/35L and 13/31 lighting.

Acquire 180 acres for runways 35L and 35R protection zones.

Construct taxiways L and M.

Improve runways 15L and 35R safety areas.

Rehabilitate and extend taxiway C.

Rehabilitate air carrier apron.

Convert runway 8/26 to a taxiway.

Reconstruct perimeter road.

Rehabilitate north general aviation apron.

Rehabilitate west cargo apron.

Rehabilitate taxiways J and K.

Rehabilitate terminal.

Rehabilitate terminal access road.

PFC administrative costs.

Decision Date: October 22, 2001.

FOR FURTHER INFORMATION CONTACT: G. Thomas Wade, Southwest Region Airports Division, (817) 222-5613.

Public Agency: County of Victoria, Texas.

Application Number: 01-03-C-00-VCT.

Application Type: Impose and use a PFC.

PFC Level: $4.50.

Total PFC Revenue Approved in this Decision: $182,356.

Earliest Charge Effective Date: January 1, 2002.

Estimated Charge Expiration Date: March 1, 2004.

Class of Air Carriers Not Required To Collect PFC's: None.

Brief Description of Projects Approved for Collection and Use:

Acquire aircraft rescue and firefighting vehicle.

Acquire airfield sweeper.

Update airport master plan.

Rehabilitate runways 12L/30R and 17/35.

Rehabilitate medium intensity taxiway lights on taxiways A and B.

Decision Date: October 30, 2001.

FOR FURTHER INFORMATION CONTACT: G. Thomas Wade, Southwest Region Airports Division, (817) 222-5613.

Amendments to PFC Approvals

Amendment No. City, State | Amendment approved date | Original approved net PFC revenue | Amended approved net PFC revenue | Original estimated charge exp. date | Amended estimated charge exp. date
99-03-C-01-PLB Plattsburgh, NY | 09/26/01 | $63,764 | $7,264 | 03/01/01 | 02/01/99
98-05-C-01-MEI Meridian, MS | 10/01/01 | 121,650 | 234,082 | 09/01/02 | 02/01/04
*92-01-C-02-PSP Palm Springs, CA | 10/09/01 | 81,888,919 | 76,883,179 | 11/01/32 | 07/01/24
00-03-C-01-BHM Birmingham, AL | 10/11/01 | 8,000,000 | 13,500,000 | 11/01/02 | 04/01/03
98-05-C-02-BNA Nashville, TN | 10/16/01 | 2,355,000 | 2,855,000 | 10/01/01 | 11/01/01
*96-03-C-02-MGW Morgantown, WV | 10/16/01 | 18,450 | 18,450 | 02/01/02 | 02/01/02
*99-05-C-01-MGW Morgantown, WV | 10/16/01 | 192,739 | 192,739 | 07/01/05 | 06/01/04
*97-03-C-02-MIA Miami, FL | 10/18/01 | 253,011,000 | 253,011,000 | 01/01/04 | 02/01/03
*99-01-C-01-AEX Alexandria, LA | 10/20/01 | 5,378,352 | 5,378,352 | 11/01/20 | 07/01/12
*99-02-C-01-PUW Pullman, WA | 10/24/01 | 714,731 | 714,731 | 03/01/05 | 05/01/04
95-02-C-01-SF Sacramento, CA | 10/31/01 | 7,327,560 | 6,049,560 | 03/01/97 | 03/01/97
Note: The amendments denoted by an asterisk (*) include a change to the PFC level charged from $2.00 or $3.00 per enplaned passenger to $4.50 per enplaned passenger. For Morgantown, WV, this change is effective on December 1, 2001. For Palm Springs, CA, Miami, FL, Alexandria, LA, and Pullman, WA, this change is effective on January 1, 2002.

Issued in Washington, DC, on November 29, 2001.
Sheryl Scarborough,
Program Analyst, Passenger Facility Charge Branch.

[FR Doc. 01-30174 Filed 12-4-01; 8:45 am]

BILLING CODE 4910-13-M